DEPARTMENT OF HOMELAND SECURITY

Federal Emergency Management Agency

Agency Information Collection Activities: Proposed Collection; Comment Request

AGENCY: Federal Emergency Management Agency, DHS.

ACTION: Notice; 60-day notice and request for comments; collection type extension, without change, of a currently approved collection, OMB Number: 1660-0057, Form Number(s): No forms associated with this collection.

SUMMARY: The Federal Emergency Management Agency (FEMA), as part of its continuing effort to reduce paperwork and respondent burden, invites the general public and other Federal agencies to take this opportunity to comment on a proposed revised information collection. In accordance with the Paperwork Reduction Act of 1995, this notice seeks comments concerning the need to continue to collect information from the State, local and tribal government officials, businesses, and individuals residing in the immediate and surrounding areas of chemical stockpile sites.

SUPPLEMENTARY INFORMATION: The Chemical Stockpile Emergency Preparedness Program (CSEPP) is one facet of the multi-hazard readiness program in eight U.S. states that deal with hazardous material spills or releases. The program's goal is to improve preparedness to protect the people of these communities in the unlikely event of an accident. CSEPP, a cooperative effort between FEMA and the U.S. Army, provides funding (grants), training, community outreach, guidance, technical support and expertise to State, local, and tribal governments to improve their capabilities to prepare for and respond to this type of disaster. Since no preparedness program can be successful without the public's understanding and cooperation, input from the residents and businesses of immediate and/or surrounding areas is vital for program managers' ability to design custom-tailored strategies to educate and communicate risks and action plans at the local level. This survey, which was initiated six years ago, will continue as the assessment mechanism to document and quantify program achievements. There are two authorities supporting this information collection: (1) The Government Performance Results Act of 1993 (GPRA), which mandates federal agencies to provide valid and reliable quantification of program achievements, and (2) Executive Order 12862, which requires agencies to survey customers to determine their level of satisfaction with existing services.

Collection of Information

Title: Chemical Stockpile Emergency Preparedness Program (CSEPP) Evaluation and Customer Satisfaction Survey.

Type of Information Collection: Extension of a currently approved collection.

OMB Number: OMB 1660-0057.

Form Numbers: None associated with this collection.

Abstract: Consistent with performance measurement requirements set forth by the Government Performance Results Act, the Chemical Stockpile Preparedness Program (CSEPP) will continue collecting data from state, local and tribal governments, individuals and businesses residing in the immediate or surrounding areas of eight chemical stockpile sites. This study will: (1) Assess program effectiveness using five national performance indicators unique to the CSEPP program, (2) measure and monitor customer satisfaction with CSEPP products and services, and (3) identify weaknesses and strengths of individual sites and program components. Data findings will be used to set customer service standards, while providing quantitative benchmarks for program monitoring and evaluation.

Affected Public: State and local officials; individuals; businesses.

Estimated Total Annual Burden Hours:

Annual Burden Hours
Project/activity (survey, form(s), focus group, etc.) | Number of respondents | Frequency of responses | Burden hours per respondent | Annual responses | Total annual burden hours
| (A) | (B) | (C) | (A × B ) | (A × B × C)
Open-ended Questionnaire | ⁽¹⁾ 176 | 1 | 0.25 | 176 | 44
Pilot Tests—Site Surveys | ⁽²⁾ 240 | 1 | 0.25 | 240 | 60
Site Surveys Questionnaires ⁽³⁾—
Anniston, AL | 961 | 1 | 0.25 | 961 | 240
Blue Grass, KY | 822 | 1 | 0.25 | 822 | 206
Deseret, UT | 823 | 1 | 0.25 | 823 | 206
Edgewood, MD (Aberdeen) | 807 | 1 | 0.25 | 807 | 202
Newport, IN (Mail Survey) ⁽⁵⁾ | 815 | 1 | 0.25 | 815 | 204
Pine Bluff, AR | 1,093 | 1 | 0.25 | 1,093 | 273
Pueblo, CO ⁽⁴⁾ | 823 | 1 | 0.25 | 823 | 206
Pueblo City | 383 | 1 | 0.17 | 383 | 65
Umatilla, OR | 814 | 1 | 0.25 | 814 | 204
TotaL | 7,757 | 1 |  | 7,757 | 1,910
⁽¹⁾ State and local officials.
⁽²⁾ Thirty residential and/or business respondents per pilot test in each of 8 CSEPP sites.
⁽³⁾ Individual/residential respondents.
⁽⁴⁾ Includes 86 business respondents.
⁽⁵⁾ Mail survey will double as pilot per OMB suggestions.

Estimated Cost: There are no startup or operational/maintenance costs to respondents since there are no reporting or record keeping requirements associated with this collection. The only cost to respondents is the one incurred as a direct result of the burden hours.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before January 22, 2008.

ADDRESSES: Interested persons should submit written comments to Office of Management, Records Management Division, Federal Emergency Management Agency, 500 C Street, SW., Washington, DC 20472 (Mail Drop Room 301, 1880 S. Bell Street, Arlington, VA, 22202).

FOR FURTHER INFORMATION CONTACT: Contact Joe Herring, Program Specialist, CSEPP at (703) 605-1378 for additional information. You may contact the Records Management Branch for copies of the proposed collection of information at facsimile number (202) 646-3347 or e-mail address: FEMA-Information-Collections@dhs.gov.

Dated: November 7, 2007.
John A. Sharetts-Sullivan,
Director, Records Management Division Office of Management, Federal Emergency Management Agency, Department of Homeland Security.

[FR Doc. E7-22713 Filed 11-20-07; 8:45 am]

BILLING CODE 9110-21-P